DEPARTMENT OF THE INTERIOR

Bureau of Land Management

[AK-933-1430-ET; AA-26417]

Notice of Proposed Extension of Withdrawal and Opportunity for Public Meeting; Alaska

AGENCY: Bureau of Land Management, Interior.

ACTION: Notice.

SUMMARY: The U.S. Geological Survey proposes to extend Public Land Order No. 6458 for a 20-year period. This order withdrew public land from settlement, sale, location, or entry under the general land laws, including the mining laws to protect the Sitka Magnetic Observatory Site. This Notice also gives an opportunity to comment on the proposed action and to request a public meeting.

DATES: Comments and requests for a public meeting must be received by April 21, 2003.

ADDRESSES: Comments and requests should be sent to the Alaska State Director, BLM Alaska State Office, 222 West 7th Avenue, No. 13, Anchorage, Alaska 99513-7599. You can access information about sending comments electronically at: http://www.anchorage.ak.blm.gov/sitkamos.html.

FOR FURTHER INFORMATION CONTACT: Robbie J. Havens, BLM Alaska State Office, 907-271-5477.

SUPPLEMENTARY INFORMATION: On July 25, 2002, the U.S. Geological Survey requested that Public Land Order No. 6458 be extended for an additional 20-year period. Public Land Order No. 6458, which expires on September 6, 2003, withdrew 117.13 acres from settlement, sale, location or entry under the general land laws, including the mining laws to protect the Sitka Magnetic Observatory Site, as it affects the following described land:

Copper River Meridian

T. 55 S., R. 63 E., U.S. Survey No. 2545, Lot 4.

The area described contains 117.13 acres.

For a period of 90 days from the date of publication of this notice, all persons who wish to submit comments, suggestions, or objections in connection with the proposed withdrawal extension may present their views in writing to the Alaska State Director of the Bureau of Land Management.

Notice is hereby given that an opportunity for a public meeting is afforded in connection with the proposed extension. All interested persons who desire a public meeting for the purpose of being heard on the proposed withdrawal extension must submit a written request to the Alaska State Director within 90 days from the date of publication of this notice. If the authorized officer determines that a public meeting will be held, a notice of the time and place will be published in the Federal Register at least 30 days before the scheduled date of the meeting.

This application will be processed in accordance with the regulations set forth in 43 CFR 2300.

Dated: November 25, 2002.
Linda J. Resseguie,
Acting Chief, Branch of Lands, Division of Lands, Minerals, and Resources.

[FR Doc. 03-1252 Filed 1-17-03; 8:45 am]

BILLING CODE 4310-JA-P